DEPARTMENT OF STATE

[Public Notice 8439]

60-Day Notice of Proposed Information Collection: Voluntary Disclosures.

ACTION: Notice of request for public comments.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to 60 days from August 27, 2013.

ADDRESSES: Comments and questions should be directed to Mr. Nicholas Memos, Office of Defense Trade Controls Policy, U.S. Department of State, who may be reached via the following methods:

• Internet: Persons with access to the Internet may use the Federal Docket Management System (FDMS) to comment on this notice by going to www.regulations.gov. You may search for the document by entering “Public Notice ####” in the search bar. If necessary, use the “narrow by agency” filter option on the results page.

• Email: memosni@state.gov.

• Mail: Mr. Nicholas Memos, SA-1, 12th Floor, Directorate of Defense Trade Controls, Bureau of Political-Military Affairs, U.S. Department of State, Washington, DC 20522-0112.

You must include the information collection title and the OMB control number in any correspondence.

FOR FURTHER INFORMATION CONTACT: Direct requests for additional information to Mr. Nicholas Memos, PM/DDTC, SA-1, 12th Floor, Directorate of Defense Trade Controls, Bureau of Political-Military Affairs, U.S. Department of State, Washington, DC 20522-0112, who may be reached via phone at (202) 663-2829, or via email at memosni@state.gov.

• Title of Information Collection: Voluntary Disclosures

• OMB Control Number: 1405-0179

• Type of Request: Extension of Currently Approved Collection

• Originating Office: Bureau of Political-Military Affairs, Directorate of Defense Trade Controls, PM/DDTC

• Form Number: None

• Respondents: Business and nonprofit organizations

• Estimated Number of Respondents: 850

• Estimated Number of Responses: 1,500

• Average Hours Per Response: 10 hours

• Total Estimated Burden: 15,000 hours

• Frequency: On Occasion

• Obligation to Respond: Voluntary

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The export, temporary import, temporary export and brokering of defense articles, defense services, and related technical data are licensed by the Directorate of Defense Trade Controls (DDTC) in accordance with the International Traffic in Arms Regulations (“ITAR,” 22 CFR 120-130) and Section 38 of the Arms Export Control Act (AECA). Those who manufacture or export defense articles, defense services, and related technical data, or the brokering thereof, must register with the Department of State. Persons desiring to engage in export, temporary import, and brokering activities must submit an application or written request to conduct the transaction to the Department to obtain a decision whether it is in the interests of U.S. foreign policy and national security to approve the transaction. Also, registered brokers must submit annual reports regarding all brokering activity that was transacted, and registered manufacturers and exporter must maintain records of defense trade activities for five years. ITAR § 127.12 encourages the disclosure of information to DDTC by persons who believe they may have violated any provision of the AECA, ITAR, or any order, license, or other authorization issued under the AECA. The violation is analyzed by DDTC to determine whether to take administrative action under ITAR part 128 and whether to refer the matter to the Department of Justice for possible prosecution.

Methodology: This information collection may be sent to the Directorate of Defense Trade Controls via the following methods: electronically or mail.

Dated: August 20, 2013.
C. Edward Peartree,
Office of Defense Trade Controls Policy, Bureau of Political-Military Affairs, U.S. Department of State.

[FR Doc. 2013-20908 Filed 8-26-13; 8:45 am]

BILLING CODE 4710-25-P